DEPARTMENT OF HEALTH AND HUMAN SERVICES

Centers for Medicare & Medicaid Services

42 CFR Part 412

[CMS-1349-CN]

RIN 0938-AQ28

Medicare Program; Inpatient Rehabilitation Facility Prospective Payment System for Federal Fiscal Year 2012; Changes in Size and Square Footage of Inpatient Rehabilitation Units and Inpatient Psychiatric Units; Correction

AGENCY: Centers for Medicare & Medicaid Services (CMS), HHS.

ACTION: Final rule; correction.

SUMMARY: This document corrects technical errors that appeared in the final rule published in the Federal Register on August 5, 2011 entitled “Medicare Program; Inpatient Rehabilitation Facility Prospective Payment System for Federal Fiscal Year 2012; Changes in Size and Square Footage of Inpatient Rehabilitation Units and Inpatient Psychiatric Units,” (hereinafter FY 2012 IRF PPS final rule (76 FR 47836)).

DATES: Effective Date. The corrections are effective October 1, 2011.

FOR FURTHER INFORMATION CONTACT: Susanne Seagrave, (410) 786-0044.

SUPPLEMENTARY INFORMATION:

I. Background

There were technical errors in the August 5, 2011 FY 2012 IRF PPS final rule (76 FR 47836). These technical errors are identified and corrected in the “Summary of Errors” and “Correction of Errors” sections below. The provisions in this correction document are effective as if they were included in the final rule published on August 5, 2011. Accordingly, the corrections are effective October 1, 2011.

II. Summary of Errors

In the August 5, 2011 final rule (76 FR 47836), we applied our established formula for calculating the relative weight values for case-mix groups (CMG). The CMG relative weight values for CMGs 1201, 1202, 1203, 1301, 1302, and 1303 in Table 1 on pages 47842 through 47844 of the final rule did not reflect our policy that the relative weight values for higher-paying tiers must always be greater than or equal to the relative weight values for lower-paying tiers. That is, a tier 1 payment for a given CMG must always be at least as high as a tier 2 payment for that same CMG, the tier 2 payment must always be at least as high as the tier 3 payment, and the tier 3 payment must always be at least as high as the “no-comorbidity” tier payment. We have used this policy in calculating the CMG relative weights since the inception of the IRF PPS. However, we inadvertently did not apply this policy correctly for CMGs 1201, 1202, 1203, 1301, 1302, and 1303 in Table 1 on pages 47842 through 47844 of the FY 2012 IRF PPS final rule.

Further, as discussed in “Step 4” in the CMG relative weights discussion, column 1, on page 47841 of the FY 2012 IRF PPS final rule, we normalized the FY 2012 CMG relative weights to the same average CMG relative weight values from the FY 2011 IRF PPS notice (75 FR 42836). As this process utilized the incorrect values that had been listed for the relative weight values for CMGs 1201, 1202, 1203, 1301, 1302, and 1303, upon correction we also needed to reapply the normalization process to the other CMGs using the corrected relative weight values. This process corrects the relative weight values for all CMGs so that we are appropriately applying the policy of normalizing the FY 2012 CMG relative weights to the same average CMG relative weight values from the FY 2011 IRF PPS notice.

Since the FY 2012 payment rates listed in Table 11 on pages 47865 through 47866 of the final rule are based on the CMG relative weights in Table 1 (the payment rates are equal to the CMG relative weights multiplied by the FY 2012 Standard Payment Conversion Factor), we are also providing corrections to Table 11 in the final rule to reflect the corrections to the CMG relative weights in Table 1. In addition, we are correcting the example of computing the IRF FY 2012 Federal prospective payment in Table 12 on page 47867 of the final rule to reflect the correction to the unadjusted Federal prospective payment rate for CMG 0110 (without comorbidities) from Table 11.

Finally, we utilized the CMG payment rates reflected in Table 11 of the IRF PPS final rule to determine the FY 2012 outlier threshold. As described in the final rule, the outlier threshold is to be set so that the estimated total outlier payments in FY 2012 will equal 3 percent of total estimated payments. Since corrections to the FY 2012 payment rates result in slight differences in the amount of outlier payments we estimate for FY 2012, the use of the corrected data results in an outlier threshold for FY 2012 IRF PPS of $10,713. Therefore, we are correcting the outlier threshold amount for FY 2012 from $10,660 to $10,713 to ensure that estimated outlier payments for FY 2012 continue to equal 3 percent of total estimated payments.

We note that the corrections to the CMG relative weight values in Table 1 of the FY 2012 IRF PPS final rule do not affect the average length of stay values, which we have republished here for simplicity. The average length of stay values are the same values that were published correctly in Table 1 of the August 5, 2011 final rule (76 FR 47836).

As a result of the corrections to Table 1 and Table 11 of the final rule, as well as the correction to the FY 2012 outlier threshold amount, some of the numbers in Table 14 on page 47887 of the final rule (the IRF Impact Table for FY 2012), also need to be corrected. We are correcting these numbers both in Table 14 and in the preamble text that references Table 14.

III. Waiver of Proposed Rulemaking and Delayed Effective Date

In accordance with the Administrative Procedure Act (APA) (5 U.S.C. 553(b)), we ordinarily publish a notice of proposed rulemaking in the Federal Register to provide a period for public comment before the provisions of a rule take effect. We also ordinarily provide a 30-day delay in the effective date of the provisions of a rule in accordance with section 553(d) of the APA (5 U.S.C. 553(d)). However, we can waive both notice and comment procedures and the 30-day delay in effective date if the Secretary finds, for good cause, that such procedures are impracticable, unnecessary, or contrary to the public interest, and incorporates a statement of the finding and the reasons into the notice.

The corrections that are laid out in this document were necessitated by an inadvertent error to accurately apply our stated policies as we calculated and laid out the CMG relative weight values in Table 1 of the FY 2012 IRF PPS final rule. As a result of those calculation errors, corrections were needed in Tables 1, 11, 12 and 14. Corrections were also needed as a result of these calculation errors in the places indicated above in the preamble discussion.

Upon recognition of these calculation errors, we reviewed the comments that were submitted in response to our FY 2012 IRF PPS proposed rule. We found that the necessary corrections would not have altered the substantive content of those comments.

As the corrections necessitated by the calculation errors outlined above do not change the stated policies in the FY 2012 IRF PPS final rule, as the policies and payment methodology expressed in the FY 2012 IRF PPS final rule (76 FR 47836) have previously been subjected to notice and comment procedures, and as the public's comments would not have been affected if we had published the correctly calculated data elements, we find it unnecessary to undertake further notice and comment procedures with respect to this correction document. Further, the corrections made in this document will not significantly affect anticipated overall reimbursements to IRF providers and, as such, will only result in negligible changes to anticipated revenues and will not necessitate any actions on the part of individual providers. Therefore, we find good cause to waive notice and comment procedures and the 30-day delay in the effective date for this correction document.

IV. Correction of Errors

In the August 5, 2011 FY 2012 IRF PPS final rule (76 FR 47836), make the following corrections:

1. On pages 47842 through 47844, Table 1, “Relative Weights and Average Length of Stay Values for Case-Mix Groups,” is corrected as follows:

Table 1—Relative Weights and Average Length of Stay Values for Case-Mix Groups
CMG | CMG Description (M = motor, C = cognitive, A = age) | Relative weight: Tier 1 | Relative weight: Tier 2 | Relative weight: Tier 3 | Relative weight: None | Average length of stay: Tier 1 | Average length of stay: Tier 2 | Average length of stay: Tier 3 | Average length of stay: None
0101 | Stroke M>51.05 | 0.7671 | 0.7177 | 0.6447 | 0.6098 | 10 | 10 | 9 | 8
0102 | Stroke M>44.45 and M<51.05 and C>18.5 | 0.9521 | 0.8908 | 0.8002 | 0.7568 | 12 | 13 | 10 | 10
0103 | Stroke M>44.45 and M<51.05 and C<18.5 | 1.1369 | 1.0637 | 0.9555 | 0.9037 | 14 | 14 | 12 | 12
0104 | Stroke M>38.85 and M<44.45 | 1.1812 | 1.1052 | 0.9928 | 0.9389 | 15 | 14 | 13 | 12
0105 | Stroke M>34.25 and M<38.85 | 1.3725 | 1.2841 | 1.1535 | 1.0910 | 16 | 17 | 14 | 14
0106 | Stroke M>30.05 and M<34.25 | 1.5805 | 1.4788 | 1.3284 | 1.2564 | 20 | 18 | 16 | 16
0107 | Stroke M>26.15 and M<30.05 | 1.7895 | 1.6743 | 1.5040 | 1.4225 | 20 | 20 | 18 | 18
0108 | Stroke M<26.15 and A>84.5 | 2.2165 | 2.0738 | 1.8629 | 1.7619 | 31 | 25 | 23 | 22
0109 | Stroke M>22.35 and M<26.15 and A<84.5 | 2.0496 | 1.9177 | 1.7226 | 1.6292 | 24 | 23 | 20 | 20
0110 | Stroke M<22.35 and A<84.5 | 2.6418 | 2.4717 | 2.2203 | 2.1000 | 33 | 29 | 26 | 25
0201 | Traumatic brain injury M>53.35 and C>23.5 | 0.7466 | 0.6128 | 0.5677 | 0.5154 | 8 | 8 | 7 | 8
0202 | Traumatic brain injury M>44.25 and M<53.35 and C>23.5 | 1.0607 | 0.8707 | 0.8065 | 0.7323 | 12 | 12 | 10 | 10
0203 | Traumatic brain injury M>44.25 and C<23.5 | 1.2074 | 0.9911 | 0.9181 | 0.8336 | 16 | 11 | 13 | 12
0204 | Traumatic brain injury M>40.65 and M<44.25 | 1.2649 | 1.0383 | 0.9618 | 0.8733 | 16 | 12 | 12 | 12
0205 | Traumatic brain injury M>28.75 and M<40.65 | 1.5974 | 1.3113 | 1.2146 | 1.1029 | 17 | 18 | 15 | 14
0206 | Traumatic brain injury M>22.05 and M<28.75 | 1.9887 | 1.6325 | 1.5122 | 1.3731 | 23 | 19 | 19 | 18
0207 | Traumatic brain injury M<22.05 | 2.6902 | 2.2084 | 2.0455 | 1.8574 | 35 | 27 | 25 | 22
0301 | Non-traumatic brain injury M>41.05 | 1.0568 | 0.9507 | 0.8434 | 0.7725 | 12 | 12 | 11 | 10
0302 | Non-traumatic brain injury M>35.05 and M<41.05 | 1.3383 | 1.2039 | 1.0681 | 0.9782 | 12 | 15 | 13 | 13
0303 | Non-traumatic brain injury M>26.15 and M<35.05 | 1.5912 | 1.4315 | 1.2699 | 1.1631 | 21 | 17 | 15 | 14
0304 | Non-traumatic brain injury M<26.15 | 2.2032 | 1.9820 | 1.7583 | 1.6104 | 29 | 23 | 20 | 19
0401 | Traumatic spinal cord injury M>48.45 | 1.0564 | 0.8795 | 0.8001 | 0.7020 | 14 | 14 | 11 | 10
0402 | Traumatic spinal cord injury M>30.35 and M<48.45 | 1.3772 | 1.1465 | 1.0430 | 0.9151 | 17 | 14 | 13 | 12
0403 | Traumatic spinal cord injury M>16.05 and M<30.35 | 2.4588 | 2.0470 | 1.8622 | 1.6339 | 29 | 26 | 23 | 20
0404 | Traumatic spinal cord injury M<16.05 and A>63.5 | 4.3666 | 3.6353 | 3.3070 | 2.9016 | 52 | 39 | 38 | 35
0405 | Traumatic spinal cord injury M<16.05 and A<63.5 | 3.8573 | 3.2113 | 2.9213 | 2.5632 | 52 | 39 | 36 | 29
0501 | Non-traumatic spinal cord injury M>51.35 | 0.6555 | 0.6294 | 0.5613 | 0.4975 | 10 | 10 | 7 | 7
0502 | Non-traumatic spinal cord injury M>40.15 and M<51.35 | 0.9809 | 0.9418 | 0.8399 | 0.7444 | 13 | 13 | 11 | 10
0503 | Non-traumatic spinal cord injury M>31.25 and M<40.15 | 1.2453 | 1.1956 | 1.0663 | 0.9450 | 16 | 14 | 13 | 12
0504 | Non-traumatic spinal cord injury M>29.25 and M<31.25 | 1.5015 | 1.4416 | 1.2856 | 1.1394 | 18 | 16 | 16 | 14
0505 | Non-traumatic spinal cord injury M>23.75 and M<29.25 | 1.7549 | 1.6848 | 1.5026 | 1.3317 | 20 | 21 | 18 | 17
0506 | Non-traumatic spinal cord injury M<23.75 | 2.4598 | 2.3616 | 2.1062 | 1.8667 | 34 | 28 | 24 | 23
0601 | Neurological M>47.75 | 0.9452 | 0.7987 | 0.7286 | 0.6586 | 10 | 11 | 9 | 9
0602 | Neurological M>37.35 and M<47.75 | 1.2511 | 1.0572 | 0.9644 | 0.8717 | 12 | 13 | 12 | 11
0603 | Neurological M>25.85 and M<37.35 | 1.6157 | 1.3654 | 1.2455 | 1.1258 | 17 | 16 | 14 | 14
0604 | Neurological M<25.85 | 2.1425 | 1.8106 | 1.6515 | 1.4929 | 24 | 21 | 19 | 18
0701 | Fracture of lower extremity M>42.15 | 0.7996 | 0.7871 | 0.7581 | 0.6767 | 10 | 12 | 10 | 9
0702 | Fracture of lower extremity M>34.15 and M<42.15 | 1.0462 | 1.0299 | 0.9919 | 0.8854 | 12 | 13 | 12 | 12
0703 | Fracture of lower extremity M>28.15 and M<34.15 | 1.2589 | 1.2393 | 1.1937 | 1.0654 | 15 | 15 | 14 | 14
0704 | Fracture of lower extremity M<28.15 | 1.6270 | 1.6017 | 1.5426 | 1.3769 | 18 | 19 | 18 | 17
0801 | Replacement of lower extremity joint M>49.55 | 0.5777 | 0.5777 | 0.5383 | 0.4915 | 7 | 8 | 7 | 7
0802 | Replacement of lower extremity joint M>37.05 and M<49.55 | 0.7792 | 0.7792 | 0.7262 | 0.6630 | 8 | 11 | 9 | 9
0803 | Replacement of lower extremity joint M>28.65 and M<37.05 and A>83.5 | 1.0718 | 1.0718 | 0.9988 | 0.9119 | 11 | 14 | 13 | 12
0804 | Replacement of lower extremity joint M>28.65 and M<37.05 and A<83.5 | 0.9510 | 0.9510 | 0.8863 | 0.8092 | 10 | 12 | 11 | 10
0805 | Replacement of lower extremity joint M>22.05 and M<28.65 | 1.1734 | 1.1734 | 1.0936 | 0.9984 | 11 | 14 | 13 | 13
0806 | Replacement of lower extremity joint M<22.05 | 1.4368 | 1.4368 | 1.3390 | 1.2225 | 13 | 18 | 16 | 15
0901 | Other orthopedic M>44.75 | 0.8460 | 0.7455 | 0.6746 | 0.6112 | 10 | 10 | 9 | 8
0902 | Other orthopedic M>34.35 and M<44.75 | 1.1316 | 0.9971 | 0.9023 | 0.8175 | 12 | 13 | 12 | 11
0903 | Other orthopedic M>24.15 and M<34.35 | 1.4493 | 1.2770 | 1.1556 | 1.0470 | 16 | 16 | 14 | 13
0904 | Other orthopedic M<24.15 | 1.8779 | 1.6547 | 1.4973 | 1.3566 | 21 | 20 | 18 | 17
1001 | Amputation, lower extremity M>47.65 | 1.0321 | 0.9074 | 0.8107 | 0.7246 | 13 | 12 | 10 | 10
1002 | Amputation, lower extremity M>36.25 and M<47.65 | 1.3551 | 1.1914 | 1.0645 | 0.9514 | 16 | 14 | 13 | 12
1003 | Amputation, lower extremity M<36.25 | 2.0018 | 1.7600 | 1.5725 | 1.4055 | 21 | 21 | 18 | 17
1101 | Amputation, non-lower extremity M>36.35 | 1.0375 | 1.0375 | 0.9841 | 0.9236 | 11 | 11 | 12 | 11
1102 | Amputation, non-lower extremity M<36.35 | 1.5611 | 1.5611 | 1.4808 | 1.3897 | 14 | 18 | 16 | 16
1201 | Osteoarthritis M>37.65 | 0.8554 | 0.8554 | 0.8088 | 0.7645 | 13 | 13 | 11 | 10
1202 | Osteoarthritis M>30.75 and M<37.65 | 1.1152 | 1.1152 | 1.0544 | 0.9966 | 16 | 16 | 14 | 13
1203 | Osteoarthritis M<30.75 | 1.3737 | 1.3737 | 1.2989 | 1.2277 | 13 | 19 | 15 | 15
1301 | Rheumatoid, other arthritis M>36.35 | 0.8929 | 0.8929 | 0.8833 | 0.7875 | 11 | 10 | 11 | 10
1302 | Rheumatoid, other arthritis M>26.15 and M<36.35 | 1.1759 | 1.1759 | 1.1632 | 1.0370 | 17 | 17 | 14 | 13
1303 | Rheumatoid, other arthritis M<26.15 | 1.5198 | 1.5198 | 1.5035 | 1.3403 | 15 | 19 | 18 | 16
1401 | Cardiac M>48.85 | 0.9405 | 0.7530 | 0.6659 | 0.6022 | 10 | 10 | 9 | 8
1402 | Cardiac M>38.55 and M<48.85 | 1.2630 | 1.0112 | 0.8941 | 0.8087 | 13 | 12 | 11 | 10
1403 | Cardiac M>31.15 and M<38.55 | 1.5254 | 1.2213 | 1.0799 | 0.9767 | 18 | 14 | 13 | 12
1404 | Cardiac M<31.15 | 1.9757 | 1.5818 | 1.3987 | 1.2651 | 24 | 19 | 16 | 15
1501 | Pulmonary M>49.25 | 0.9606 | 0.8970 | 0.7731 | 0.7308 | 10 | 11 | 8 | 9
1502 | Pulmonary M>39.05 and M<49.25 | 1.2091 | 1.1290 | 0.9732 | 0.9198 | 13 | 13 | 11 | 11
1503 | Pulmonary M>29.15 and M<39.05 | 1.4911 | 1.3923 | 1.2001 | 1.1343 | 16 | 16 | 13 | 13
1504 | Pulmonary M<29.15 | 1.8836 | 1.7589 | 1.5160 | 1.4330 | 22 | 18 | 17 | 16
1601 | Pain syndrome M>37.15 | 1.1167 | 0.8790 | 0.7713 | 0.7211 | 12 | 12 | 10 | 10
1602 | Pain syndrome M>26.75 and M<37.15 | 1.4957 | 1.1773 | 1.0331 | 0.9658 | 19 | 13 | 13 | 13
1603 | Pain syndrome M<26.75 | 1.9322 | 1.5210 | 1.3347 | 1.2477 | 22 | 18 | 16 | 15
1701 | Major multiple trauma without brain or spinal cord injury M>39.25 | 1.0424 | 0.9277 | 0.8419 | 0.7360 | 10 | 11 | 11 | 10
1702 | Major multiple trauma without brain or spinal cord injury M>31.05 and M<39.25 | 1.3755 | 1.2242 | 1.1110 | 0.9712 | 13 | 15 | 14 | 13
1703 | Major multiple trauma without brain or spinal cord injury M>25.55 and M<31.05 | 1.6223 | 1.4439 | 1.3104 | 1.1455 | 15 | 16 | 15 | 15
1704 | Major multiple trauma without brain or spinal cord injury M<25.55 | 2.0766 | 1.8482 | 1.6773 | 1.4663 | 26 | 22 | 20 | 18
1801 | Major multiple trauma with brain or spinal cord injury M>40.85 | 1.1991 | 0.9837 | 0.9497 | 0.8687 | 14 | 15 | 12 | 11
1802 | Major multiple trauma with brain or spinal cord injury M>23.05 and M<40.85 | 1.6464 | 1.3507 | 1.3040 | 1.1927 | 18 | 20 | 15 | 15
1803 | Major multiple trauma with brain or spinal cord injury M<23.05 | 2.8188 | 2.3124 | 2.2325 | 2.0420 | 34 | 32 | 26 | 24
1901 | Guillian Barre M>35.95 | 1.1440 | 1.0078 | 0.9143 | 0.8879 | 13 | 14 | 12 | 12
1902 | Guillian Barre M>18.05 and M<35.95 | 2.1760 | 1.9170 | 1.7390 | 1.6888 | 22 | 22 | 21 | 21
1903 | Guillian Barre M<18.05 | 3.6334 | 3.2009 | 2.9037 | 2.8199 | 48 | 29 | 34 | 32
2001 | Miscellaneous M>49.15 | 0.8533 | 0.7540 | 0.6760 | 0.6073 | 9 | 10 | 9 | 8
2002 | Miscellaneous M>38.75 and M<49.15 | 1.1420 | 1.0091 | 0.9047 | 0.8128 | 12 | 12 | 11 | 10
2003 | Miscellaneous M>27.85 and M<38.75 | 1.4421 | 1.2742 | 1.1425 | 1.0264 | 15 | 15 | 13 | 13
2004 | Miscellaneous M<27.85 | 1.9337 | 1.7086 | 1.5319 | 1.3763 | 24 | 20 | 18 | 16
2101 | Burns M>0 | 2.4686 | 2.1368 | 1.7017 | 1.3793 | 34 | 23 | 19 | 18
5001 | Short-stay cases, length of stay is 3 days or fewer |  |  |  | 0.1474 |  |  |  | 3
5101 | Expired, orthopedic, length of stay is 13 days or fewer |  |  |  | 0.5851 |  |  |  | 7
5102 | Expired, orthopedic, length of stay is 14 days or more |  |  |  | 1.4705 |  |  |  | 18
5103 | Expired, not orthopedic, length of stay is 15 days or fewer |  |  |  | 0.6965 |  |  |  | 8
5104 | Expired, not orthopedic, length of stay is 16 days or more |  |  |  | 1.8764 |  |  |  | 23

2. On pages 47865 through 47866, Table 11, “FY 2012 Payment Rates,” is corrected as follows:

Table 11—FY 2012 Payment Rates
CMG | Payment rate tier 1 | Payment rate tier 2 | Payment rate tier 3 | Payment rate no comorbidity
0101 | $10,797.70 | $10,102.35 | $9,074.80 | $8,583.54
0102 | 13,401.76 | 12,538.90 | 11,263.62 | 10,652.72
0103 | 16,003.00 | 14,972.64 | 13,449.62 | 12,720.48
0104 | 16,626.57 | 15,556.80 | 13,974.65 | 13,215.96
0105 | 19,319.31 | 18,074.99 | 16,236.67 | 15,356.92
0106 | 22,247.12 | 20,815.59 | 18,698.56 | 17,685.09
0107 | 25,189.00 | 23,567.45 | 21,170.30 | 20,023.11
0108 | 31,199.45 | 29,190.81 | 26,222.18 | 24,800.50
0109 | 28,850.17 | 26,993.55 | 24,247.32 | 22,932.62
0110 | 37,185.98 | 34,791.65 | 31,252.94 | 29,559.60
0201 | 10,509.14 | 8,625.77 | 7,990.95 | 7,254.77
0202 | 14,930.41 | 12,255.97 | 11,352.29 | 10,307.85
0203 | 16,995.36 | 13,950.72 | 12,923.18 | 11,733.75
0204 | 17,804.73 | 14,615.11 | 13,538.30 | 12,292.57
0205 | 22,485.00 | 18,457.86 | 17,096.71 | 15,524.42
0206 | 27,992.94 | 22,979.07 | 21,285.73 | 19,327.76
0207 | 37,867.26 | 31,085.44 | 28,792.46 | 26,144.76
0301 | 14,875.52 | 13,382.05 | 11,871.70 | 10,873.71
0302 | 18,837.91 | 16,946.10 | 15,034.58 | 13,769.14
0303 | 22,397.73 | 20,149.79 | 17,875.11 | 16,371.80
0304 | 31,012.24 | 27,898.63 | 24,749.83 | 22,667.99
0401 | 14,869.89 | 12,379.84 | 11,262.21 | 9,881.35
0402 | 19,385.47 | 16,138.13 | 14,681.27 | 12,880.95
0403 | 34,610.07 | 28,813.57 | 26,212.33 | 22,998.78
0404 | 61,464.26 | 51,170.48 | 46,549.33 | 40,842.92
0405 | 54,295.35 | 45,202.26 | 41,120.22 | 36,079.60
0501 | 9,226.82 | 8,859.43 | 7,900.86 | 7,002.81
0502 | 13,807.15 | 13,256.78 | 11,822.43 | 10,478.17
0503 | 17,528.84 | 16,829.27 | 15,009.24 | 13,301.82
0504 | 21,135.11 | 20,291.96 | 18,096.11 | 16,038.19
0505 | 24,701.97 | 23,715.24 | 21,150.60 | 18,745.01
0506 | 34,624.14 | 33,241.88 | 29,646.87 | 26,275.67
0601 | 13,304.64 | 11,242.50 | 10,255.77 | 9,270.45
0602 | 17,610.48 | 14,881.15 | 13,574.89 | 12,270.05
0603 | 22,742.59 | 19,219.37 | 17,531.66 | 15,846.76
0604 | 30,157.83 | 25,486.01 | 23,246.51 | 21,014.06
0701 | 11,255.17 | 11,079.22 | 10,671.02 | 9,525.23
0702 | 14,726.31 | 14,496.87 | 13,961.98 | 12,462.89
0703 | 17,720.28 | 17,444.39 | 16,802.52 | 14,996.57
0704 | 22,901.65 | 22,545.53 | 21,713.64 | 19,381.24
0801 | 8,131.71 | 8,131.71 | 7,577.11 | 6,918.35
0802 | 10,968.02 | 10,968.02 | 10,221.99 | 9,332.39
0803 | 15,086.66 | 15,086.66 | 14,059.11 | 12,835.90
0804 | 13,386.28 | 13,386.28 | 12,475.56 | 11,390.30
0805 | 16,516.78 | 16,516.78 | 15,393.51 | 14,053.48
0806 | 20,224.40 | 20,224.40 | 18,847.76 | 17,207.91
0901 | 11,908.30 | 10,493.66 | 9,495.67 | 8,603.25
0902 | 15,928.40 | 14,035.18 | 12,700.77 | 11,507.13
0903 | 20,400.35 | 17,975.05 | 16,266.23 | 14,737.57
0904 | 26,433.32 | 23,291.56 | 21,075.99 | 19,095.50
1001 | 14,527.84 | 12,772.56 | 11,411.41 | 10,199.47
1002 | 19,074.39 | 16,770.15 | 14,983.90 | 13,391.91
1003 | 28,177.34 | 24,773.76 | 22,134.51 | 19,783.82
1101 | 14,603.85 | 14,603.85 | 13,852.19 | 13,000.59
1102 | 21,974.04 | 21,974.04 | 20,843.74 | 19,561.42
1201 | 12,040.61 | 12,040.61 | 11,384.67 | 10,761.10
1202 | 15,697.56 | 15,697.56 | 14,841.73 | 14,028.14
1203 | 19,336.20 | 19,336.20 | 18,283.32 | 17,281.11
1301 | 12,568.46 | 12,568.46 | 12,433.33 | 11,084.85
1302 | 16,551.97 | 16,551.97 | 16,373.20 | 14,596.81
1303 | 21,392.70 | 21,392.70 | 21,163.27 | 18,866.06
1401 | 13,238.48 | 10,599.23 | 9,373.21 | 8,476.57
1402 | 17,777.99 | 14,233.65 | 12,585.35 | 11,383.26
1403 | 21,471.53 | 17,191.02 | 15,200.67 | 13,748.03
1404 | 27,809.95 | 22,265.42 | 19,688.10 | 17,807.55
1501 | 13,521.41 | 12,626.17 | 10,882.16 | 10,286.74
1502 | 17,019.29 | 15,891.80 | 13,698.76 | 12,947.10
1503 | 20,988.72 | 19,598.01 | 16,892.61 | 15,966.41
1504 | 26,513.55 | 24,758.28 | 21,339.22 | 20,170.91
1601 | 15,718.67 | 12,372.80 | 10,856.82 | 10,150.20
1602 | 21,053.47 | 16,571.67 | 14,541.92 | 13,594.60
1603 | 27,197.65 | 21,409.60 | 18,787.24 | 17,562.63
1701 | 14,672.82 | 13,058.31 | 11,850.58 | 10,359.94
1702 | 19,361.54 | 17,231.84 | 15,638.44 | 13,670.61
1703 | 22,835.49 | 20,324.34 | 18,445.19 | 16,124.06
1704 | 29,230.22 | 26,015.26 | 23,609.67 | 20,639.64
1801 | 16,878.53 | 13,846.56 | 13,367.98 | 12,227.82
1802 | 23,174.73 | 19,012.45 | 18,355.10 | 16,788.45
1803 | 39,677.43 | 32,549.34 | 31,424.67 | 28,743.19
1901 | 16,102.94 | 14,185.79 | 12,869.69 | 12,498.08
1902 | 30,629.38 | 26,983.69 | 24,478.16 | 23,771.55
1903 | 51,143.74 | 45,055.87 | 40,872.48 | 39,692.91
2001 | 12,011.05 | 10,613.30 | 9,515.38 | 8,548.35
2002 | 16,074.79 | 14,204.09 | 12,734.56 | 11,440.97
2003 | 20,299.00 | 17,935.64 | 16,081.83 | 14,447.61
2004 | 27,218.76 | 24,050.25 | 21,563.02 | 19,372.80
2101 | 34,748.01 | 30,077.60 | 23,953.13 | 19,415.03
5001 |  |  |  | 2,074.80
5101 |  |  |  | 8,235.87
5102 |  |  |  | 20,698.76
5103 |  |  |  | 9,803.93
5104 |  |  |  | 26,412.21

3. On page 47867:

a. In table 12, “Example of Computing the IRF FY 2012 Federal Prospective Payment,” correct the entire table to read as follows:

Table 12—Example of Computing the IRF PPS FY 2012 Federal Prospective Payment
Steps |  | Rural Facility A (Spencer Co., IN) | Urban Facility B (Harrison Co., IN)
1 | Unadjusted Federal Prospective Payment | 29,559.60 | 29,559.60
2 | Labor Share | 0.70199 | 0.70199
3 | Labor Portion of Federal Payment | $20,750.54 | $20,750.54
4 | CBSA Based Wage Index (shown in the Addendum , Tables 1 and 2) | 0.8391 | 0.8896
5 | Wage-Adjusted Amount | $17,411.78 | $18,459.68
6 | Nonlabor Amount | $8,809.06 | $8,809.06
7 | Wage-Adjusted Federal Payment | $26,220.84 | $27,268.74
8 | Rural Adjustment | 1.184 | 1.0000
9 | Wage- and Rural-Adjusted Federal Payment | $31,045.47 | $27,268.74
10 | LIP Adjustment | 1.0228 | 1.0666
11 | FY 2012 Wage-, Rural- and LIP-Adjusted Federal Prospective Payment Rate | $31,753.31 | $29,084.84
12 | FY 2012 Wage- and Rural-Adjusted Federal Prospective Payment | $31,045.47 | $27,268.74
13 | Teaching Status Adjustment | 0.0000 | 0.0610
14 | Teaching Status Adjustment Amount | $0.00 | $1,663.39
15 | FY2012 Wage-, Rural-, and LIP-Adjusted Federal Prospective Payment Rate | $31,753.31 | $29,084.84
16 | Total FY 2012 Adjusted Federal Prospective Payment | $31,753.31 | $30,748.23

b. In the 1st column, the 4th paragraph, in line 2, the amount “$31,771.45” is corrected to read “$31,753.31.”

c. In the 1st column, the 2nd paragraph, in line 4, the amount “$30,765.80” is corrected to read “$30,748.23.”

4. On page 47868, in the 3rd column, in the 1st full paragraph, in line 6, the amount “$10,660” is corrected to read “$10,713.”

5. On page 47887, Table 14, “IRF Impact Table for FY 2012,” is corrected as follows:

Table 14—IRF Impact Table for FY 2012
Facility classification | Number of IRFs | Number of cases | Outlier | FY 2012 adjusted market basket increase factor ¹ | FY 2012 CBSA wage index and labor-share | CMG | Total percent change
(1) | (2) | (3) | (4) | (5) | (6) | (7) | (8)
Total | 1,152 | 397,388 | 0.4% | 1.8% | 0.0% | 0.0% | 2.2%
Urban unit | 752 | 200,587 | 0.6 | 1.8 | −0.1 | 0.0 | 2.3
Rural unit | 175 | 27,997 | 0.5 | 1.8 | 0.8 | 0.1 | 3.2
Urban hospital | 205 | 162,171 | 0.2 | 1.8 | 0.0 | 0.0 | 1.9
Rural hospital | 20 | 6,633 | 0.2 | 1.8 | 1.6 | −0.1 | 3.5
Urban For-Profit | 317 | 151,821 | 0.2 | 1.8 | 0.1 | −0.1 | 2.1
Rural For-Profit | 63 | 12,437 | 0.4 | 1.8 | 1.1 | 0.1 | 3.4
Urban Non-Profit | 596 | 199,313 | 0.5 | 1.8 | −0.3 | 0.0 | 2.1
Rural Non-Profit | 122 | 20,442 | 0.5 | 1.8 | 0.7 | 0.1 | 3.1
Urban Government | 44 | 11,624 | 0.7 | 1.8 | 0.2 | 0.0 | 2.8
Rural Government | 10 | 1,751 | 0.9 | 1.8 | 1.3 | 0.1 | 4.1
Urban | 957 | 362,758 | 0.4 | 1.8 | −0.1 | 0.0 | 2.1
Rural | 195 | 34,630 | 0.5 | 1.8 | 0.9 | 0.1 | 3.2
Urban by region: ²
Urban New England | 32 | 16,393 | 0.4 | 1.8 | −1.2 | 0.0 | 1.0
Urban Middle Atlantic | 142 | 66,363 | 0.3 | 1.8 | −0.7 | 0.0 | 1.4
Urban South Atlantic | 132 | 63,793 | 0.4 | 1.8 | 0.0 | 0.0 | 2.2
Urban East North Central | 188 | 57,269 | 0.5 | 1.8 | 0.0 | 0.0 | 2.4
Urban East South Central | 49 | 26,375 | 0.2 | 1.8 | 0.4 | −0.1 | 2.2
Urban West North Central | 73 | 18,118 | 0.6 | 1.8 | 0.0 | 0.0 | 2.3
Urban West South Central | 169 | 66,313 | 0.4 | 1.8 | 0.5 | 0.0 | 2.7
Urban Mountain | 70 | 23,834 | 0.4 | 1.8 | 0.2 | −0.1 | 2.3
Urban Pacific | 102 | 24,300 | 0.7 | 1.8 | −0.3 | 0.0 | 2.2
Rural by region: ²
Rural New England | 6 | 1,354 | 1.0 | 1.9 | 0.7 | 0.1 | 3.7
Rural Middle Atlantic | 16 | 3,232 | 0.2 | 1.8 | 1.8 | 0.1 | 4.0
Rural South Atlantic | 25 | 5,988 | 0.3 | 1.8 | 0.8 | 0.0 | 2.9
Rural East North Central | 33 | 5,776 | 0.4 | 1.8 | 0.1 | 0.1 | 2.4
Rural East South Central | 23 | 4,017 | 0.2 | 1.8 | 1.4 | 0.0 | 3.4
Rural West North Central | 31 | 3,945 | 0.7 | 1.8 | −0.2 | 0.1 | 2.5
Rural West South Central | 50 | 9,261 | 0.5 | 1.8 | 1.6 | 0.1 | 4.0
Rural Mountain | 7 | 670 | 0.6 | 1.8 | 0.3 | 0.2 | 2.9
Rural Pacific | 4 | 387 | 1.4 | 1.8 | −0.4 | −0.1 | 2.7
Teaching status:
Non-teaching | 1,036 | 345,500 | 0.4 | 1.8 | 0.1 | 0.0 | 2.3
Resident to ADC less than 10% | 69 | 36,878 | 0.5 | 1.8 | −0.4 | 0.0 | 2.0
Resident to ADC 10%-19% | 33 | 12,497 | 0.6 | 1.8 | −0.3 | 0.1 | 2.2
Resident to ADC greater than 19% | 14 | 2,513 | 0.7 | 1.8 | −0.7 | −0.1 | 1.8
Disproportionate Share Patient Percentage (DSH):
DSH = 0% | 39 | 10,534 | 0.4 | 1.8 | 0.4 | 0.0 | 2.7
DSH <5% | 208 | 62,434 | 0.4 | 1.8 | −0.2 | 0.0 | 2.0
DSH 5%-10% | 342 | 134,694 | 0.3 | 1.8 | 0.0 | 0.0 | 2.2
DSH 10%-20% | 330 | 123,398 | 0.4 | 1.8 | 0.0 | 0.0 | 2.2
DSH >20% | 233 | 66,328 | 0.5 | 1.8 | 0.0 | 0.0 | 2.3
¹ This column reflects the impact of the rebased RPL market basket increase factor for FY 2012 of 1.8 percent, which includes a market basket update of 2.9 percent, a 0.1 percentage point reduction in accordance with sections 1886(j)(3)(C)(ii)(II) and 1886(j)(3)(D)(ii) of the Act and a 1.0 percent reduction for the productivity adjustment as required by section 1886(j)(3)(C)(ii)(I) of the Act, as finalized in 76 FR 47860.
² A map of States that comprise the 9 geographic regions can be found at: http://www.census.gov/geo/www/us_regdiv.pdf.

6. On page 47888:

a. In the 1st column, in the 1st full paragraph, in line 18, the amount “$10,660” is corrected to read “$10,713.”

b. In the 1st column, in the 2nd full paragraph, in line 9, the value “1.5” is corrected to read “1.4.”

c. In the 2nd column, the 2nd full paragraph, lines 9 through 14, the sentence: “The largest decrease in payments as a result of these updates is a 0.1 percent decrease to rural freestanding IRFs, urban IRFs in the East South Central and Mountain regions, and rural IRFs in the Pacific region.” is corrected to read, “The largest decrease in payments as a result of these updates is a 0.1 percent decrease to rural IRF hospitals, urban for-profit IRFs, urban IRFs in the East South Central and Mountain regions, rural IRFs in the Pacific region, and teaching IRFs with resident to ADC ratios greater than 19 percent.”

7. On page 47890, in the 1st column, the 2nd full paragraph, lines 1 through 4, the sentence, “Overall the largest payment increase is estimated at 4.1 percent for rural government-owned IRFs and rural IRFs in the West South Central region.” is corrected to read, “Overall, the largest payment increases are estimated at 4.1 percent for rural government-owned IRFs, and 4.0 percent for rural IRFs in the Middle Atlantic and West South Central regions.”

(Catalog of Federal Domestic Assistance Program No. 93.773, Medicare—Hospital Insurance; and Program No. 93.774, Medicare—Supplementary Medical Insurance Program)

Dated: September 19, 2011.
Barbara J. Holland,
Deputy Executive Secretary to the Department.

[FR Doc. 2011-24671 Filed 9-23-11; 8:45 am]

BILLING CODE 4120-01-P